DEPARTMENT OF TRANSPORTATION

Federal Aviation Administration

14 CFR Parts 21 and 45

[Docket No. FAA-2013-0933; Amdt. Nos. 21-98A and 45-29A

RIN 2120-AK20

Changes to Production Certificates and Approvals; Correction

AGENCY: Federal Aviation Administration, DOT.

ACTION: Final rule; correction.

SUMMARY: The Federal Aviation Administration (FAA) is correcting a final rule correction published on December 17, 2015. In that correction, the FAA changed the effective date of the final rule to permit an earlier implementation of the rule's provisions that allow production approval holders to issue authorized release documents for aircraft engines, propellers, and articles. It also permits an earlier implementation date for production certificate holders to manufacture and install interface components, and provides earlier relief from the current requirement that fixed-pitch wooden propellers be marked using an approved fireproof method. This action corrects an error in the preamble of that document.

DATES: This correction is effective January 13, 2016.

FOR FURTHER INFORMATION CONTACT: For technical questions concerning this action, contact Priscilla Steward or Robert Cook, Aircraft Certification Service, Production Certification Section, AIR-112, Federal Aviation Administration, 800 Independence Avenue SW., Washington, DC 20591; telephone (202) 267-1656; email: priscilla.steward@faa.gov or telephone: (202) 267-1590; email: robert.cook@faa.gov.

SUPPLEMENTARY INFORMATION:

Background

On October 1, 2015, the final rule, “Changes to Production Certificates and Approvals,” 80 FR 59021, was published in the Federal Register. In that final rule the FAA revised the regulations pertaining to certification requirements for products and articles in part 21 of Title 14 of the Code of Federal Regulations (14 CFR) and removed certain marking requirements in 14 CFR part 45 applicable to fixed-pitch wooden propellers. The final rule afforded production approval holders (PAHs) a number of privileges not currently permitted under current regulations.

On December 17, 2015, a correction to the final rule, “Changes to Production Certificates and Approvals; Correction,” 80 FR 78650, was published in the Federal Register. In that correction, the FAA revised the effective date of the final rule to permit an earlier implementation of the rule's provisions that allow production approval holders to issue authorized release documents for aircraft engines, propellers, and articles. It also permits an earlier implementation date for production certificate holders to manufacture and install interface components, and provides earlier relief from the current requirement that fixed-pitch wooden propellers be marked using an approved fireproof method.

In the correction to the final rule, it stated that the FAA and EASA have agreed to delay the implementation of Change 5 to the Maintenance Annex Guidance (MAG) until March 29, 2016. The March 29, 2016 referenced date is incorrect, and the correct date is April 1, 2016. This action corrects an error in the preamble of that document.

Correction

In FR Doc. 2015-31639, beginning on page 78650 in the Federal Register of December 17, 2015, make the following correction to the preamble:

On page 78651, in the first column, twelfth line, correct “March 29” to read “April 1”.

Issued under authority provided by 49 U.S.C. 106(f), 44701(a), and 44703 in Washington, DC, on December 24, 2015.
Lirio Liu,
Director, Office of Rulemaking.

[FR Doc. 2016-00307 Filed 1-12-16; 8:45 am]

BILLING CODE 4910-13-P